DEPARTMENT OF AGRICULTURE

Rural Business-Cooperative Service

7 CFR Part 4279

[Docket No. RBS-20-BUSINESS-0016]

RIN 0570-AB07

Guaranteed Loanmaking and Servicing Regulations

AGENCY: Rural Business-Cooperative Service, USDA.

ACTION: Final rule; correction and stay of effectiveness.

SUMMARY: The Rural Business- Cooperative Service (RB-CS or Agency), a Rural Development (RD) agency of the United States Department of Agriculture (USDA), is publishing a stay of effective date for the final rule published in the Federal Register on November 24, 2023. The stay of the effective date for 60-days as provided in this notification will bring the final rule into compliance with the Congressional Review Act. This notification also corrects the reference to Executive Order 12866, Regulatory Planning and Review, which the final rule was determined to be significant.

DATES: The correction is effective December 14, 2023. Effective December 14, 2023, 7 CFR 4279.190(a), (c)(1) through (3) and (5), (d)(1) through (3), (h), (k)(1) through (3), (m) introductory text, and (m)(4) are stayed until February 12, 2024.

FOR FURTHER INFORMATION CONTACT: Mark Brodziski, Deputy Administrator, Rural Business and Cooperative Service, Rural Development, U.S. Department of Agriculture, 1400 Independence Avenue SW, Stop Washington, DC 20250-3221; email: mark.brodziski@usda.gov; telephone (202) 205-0903.

SUPPLEMENTARY INFORMATION: On November 24, 2023, RBCS issued a final rule which published in the Federal Register [88 FR 82225] entitled “Guaranteed Loanmaking and Servicing Regulations.” This final rule updates the B&I CARES Act Program Loans, as implemented in 7 CFR part 4279—Guaranteed Loan Making and 7 CFR part 4287—Servicing and as published in the Federal Register on May 22, 2020, as an interim rule. The final rule that published on November 24, 2023 incorrectly stated that the effective date was November 24, 2023. Since this final rule has been reviewed by the Office of Management and Budget and it is determined to be “Significant” under Section 3(f)(1) of Executive Order 12866, the Congressional Review Act (CR) requires a 60-day delay from date of publication in the Federal Register. This stay of the final rule for 60-days as provided in this notification will bring the final rule into compliance with the CRA.

This rulemaking also corrects the Executive Order 12866, Regulatory Planning and Review, which the final rule was determined to be significant.

Correction

In FR Doc. 2023-25908 (88 FR 82225) appearing on pages 82225 and 82227 in the Federal Register of Friday, November 24, 2023, the following correction is made:

Executive Order 12866, Regulatory Planning and Review [Corrected]

1. On page 82227, in the first column, under Executive Order 12866, Regulatory Planning and Review, is corrected to read: This final rule has been reviewed by the Office of Management and Budget and is determined to be “Significant” under Section 3(f)(1) of Executive Order 12866. A “significant regulatory action” means any regulatory action that is likely to result in a rule that may: “have an annual effect on the economy of $200 million or more (adjusted every 3 years by the Administrator of OIRA for changes in gross domestic product); or will adversely affect in a material way the economy, a sector of the economy, productivity, competition, jobs, the environment, public health or safety, or State, local, or tribal governments or communities.”

Karama Neal,
Administrator, Rural Business-Cooperative Service.

[FR Doc. 2023-26751 Filed 12-13-23; 8:45 am]

BILLING CODE 3410-XY-P